DEPARTMENT OF HOMELAND SECURITY

Federal Emergency Management Agency

44 CFR Part 65

[Docket No. FEMA-D-7569]

Changes in Flood Elevation Determinations

AGENCY: Federal Emergency Management Agency (FEMA), Emergency Preparedness and Response Directorate, Department of Homeland Security.

ACTION: Interim rule.

SUMMARY: This interim rule lists communities where modification of the Base (1% annual chance) Flood Elevations (BFEs) is appropriate because of new scientific or technical data. New flood insurance premium rates will be calculated from the modified BFEs for new buildings and their contents.

DATES: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in BFEs are in accordance with 44 CFR 65.4.

National Environmental Policy Act. This rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as shown below:

State and county | Location | Dates and name of newspaper where notice was published | Chief executive officer of community | Effective date of modification | Community number
Florida: Charlotte | Unincorporated Areas | January 27, 2005; February 3, 2005; Sun Herald | Mr. Bruce A. Loucks, Charlotte County Administrator, Charlotte County Administration Building, 18500 Murdock Circle, Port Charlotte, Florida 33948 | January 20, 2005 | 120061 F
Georgia: Richmond | City of Augusta | February 10, 2005; February 17, 2005; The Augusta Chronicle | The Honorable Robert Young, Mayor of the City of Augusta, City-County Building, 530 Greene Street, Augusta, Georgia 30911 | May 19, 2005 | 130159
Massachusetts: Barnstable | Town of Chatham | February 3, 2005; February 10, 2005; Cape Cod Times | Mr. William G. Hinchey, Chatham Town Manager, 549 Main Street, Chatham, Massachusetts 02633 | January 27, 2005 | 250004 D
Minnesota: Hennepin | City of Minneapolis | January 21, 2005; January 28, 2005; Star-Tribune | The Honorable R. T. Ryback, Mayor of the City of Minneapolis, Minneapolis City Hall, 350 South Fifth Street, Room 331, Minneapolis, Minnesota 55415 | January 11, 2005 | 270172 E
North Carolina: Orange | Town of Carrboro | July 20, 2004; July 27, 2004; Chapel Hill Herald | Mr. Steven Stewart, Carrboro Town Manager, 301 West Main Street, Carrboro, North Carolina 27510 | July 13, 2004 | 370275 B
Pennsylvania: Adams | Township of Oxford | March 10, 2005; March 17, 2005; The Gettysburg Times and The Hanover Evening Sun | Mr. Donald F. Poist, Supervisor of the Township of Oxford, Municipal Building, P.O. Box 86, New Oxford, Pennsylvania 17350 | June 16, 2005 | 420003 B
South Carolina: Berkeley | Unincorporated Areas | February 3, 2005; February 10, 2005; The Post and Courier | Mr. Jim Rozier, Chairman of the Berkeley, County Council, 223 North Live Oak Drive, Moncks Corner, South Carolina 29461 | May 12, 2005 | 450029 D
South Carolina: Berkeley | City of Goose Creek | February 3, 2005; February 10, 2005; The Post and Courier | The Honorable Michael J. Heitzler, Mayor of the City of Goose Creek, 519 North Goose Creek Boulevard, Goose Creek, South Carolina 29445 | May 12, 2005 | 450206 D
South Carolina: Richland | Unincorporated Areas | December 9, 2004; December 16, 2004; The State | Mr. T. Cary McSwain, Richland County Administrator, 2020 Hampton Street, Room 4058, P.O. Box 192, Columbia, South Carolina 29202 | March 16, 2005 | 450170 G
West Virginia: Mingo | Unincorporated Areas | February 28, 2005; March 7, 2005; The Williamson Daily News | Mr. Jim Hatfield, President of the Mingo Board of Commissioners, P.O. Box 1197, Williamson, West Virginia 25661 | November 16, 2004 | 540133 C
West Virginia: Wyoming | Unincorporated Areas | February 16, 2005; February 23, 2005; The Independent Herald | Mr. Herman R. Davis, President of the Wyoming, County Commission, P.O. Box 309, Pineville, West Virginia 24874-0309 | May 25, 2005 | 540217 B

(Catalog of Federal Domestic Assistance No. 83.100, “Flood Insurance.”)
Dated: May 18, 2005.
David I. Maurstad,
Acting Director, Mitigation Division, Emergency Preparedness and Response Directorate.

[FR Doc. 05-10615 Filed 5-26-05; 8:45 am]

BILLING CODE 9110-12-P